ENVIRONMENTAL PROTECTION AGENCY

40 CFR Part 62

[EPA-R03-OAR-2019-0527.; FRL-10020-90-Region 3]

Approval and Promulgation of State Air Quality Plans for Designated Facilities and Pollutants; State of Maryland; Control of Emissions From Existing Sewage Sludge Incineration Units; Correction

AGENCY: Environmental Protection Agency (EPA).

ACTION: Final rule; correction.

SUMMARY: The Environmental Protection Agency (EPA) issued a final rule on February 9, 2021 entitled “Approval and Promulgation of State Air Quality Plans for Designated Facilities and Pollutants; State of Maryland; Control of Emissions from Existing Sewage Sludge Incineration Units.” This document corrects an error in the rule language of the final rule pertaining to EPA's approval of Maryland's negative declaration regarding the existence of Sewage Sludge Incineration (SSI) units in the state submitted by the State of Maryland.

DATES: Effective on March 11, 2021.

FOR FURTHER INFORMATION CONTACT: Matthew Willson, Permits Branch (3AD10), Air & Radiation Division, U.S. Environmental Protection Agency, Region III, 1650 Arch Street, Philadelphia, Pennsylvania 19103. The telephone number is (215) 814-5795. Mr. Willson can also be reached via electronic mail at Willson.Matthew@epa.gov.

SUPPLEMENTARY INFORMATION: On February 9, 2021, (86 FR 8699), EPA published a final rule action announcing our approval of Maryland's negative declaration regarding the existence of SSI units in the state. In the document, we inadvertently indicated that a section should be added to the Code of Federal Regulations (CFR) at 40 CFR 62.4690 for air emissions from existing SSI units. The intent of the rule was to add a section for air emissions from existing SSI units at 40 CFR 62.5170. This document corrects the erroneous language.

Need for Correction

As published, the final rule would amend subpart T, which is for the approval of state plans for designated facilities and pollutants for the state of Louisiana. The intent of the final rule was to change the approval of state plans for designated facilities and pollutants for the State of Maryland. This correction will ensure that the correct section of the CFR, which for Maryland is subpart V, is amended.

Section 553 of the Administrative Procedure Act, 5 U.S.C. 553(b)(3)(B), provides that, when an agency for good cause finds that notice and public procedure are impracticable, unnecessary or contrary to the public interest, the agency may issue a rule without providing notice and an opportunity for public comment. We have determined that there is good cause for making this rule final without prior proposal and opportunity for comment because we are merely correcting an incorrect citation in a previous action. Thus, notice and public procedure are unnecessary. We find that this constitutes good cause under 5 U.S.C. 553(b)(3)(B).

In FR doc. 2021-02617 appearing on page 8699 in the Federal Register of Tuesday, February 9, 2021 the following corrections are made:

Subpart V—[Corrected]

1. On page 8700, in the third column, in part 62, in amendment 2, the instruction “Add an undesignated center heading and § 62.4690 to read as follows:” is corrected to read “Add an undesignated center heading and § 62.5170 to read as follows:”

2. On page 8700, in the third column, the section heading “§ 62.4690 Identification of plan—negative declaration.” is corrected to read “§ 62.5170 Identification of plan—negative declaration.”

Dated: March 3, 2021.
Diana Esher,
Acting Regional Administrator EPA Region III.

[FR Doc. 2021-04827 Filed 3-8-21; 8:45 am]

BILLING CODE 6560-50-P